DEPARTMENT OF TRANSPORTATION

Office of the Secretary

Aviation Proceedings, Agreements Filed During the Week Ending June 21, 2002

The following Agreements were filed with the Department of Transportation under the provisions of 49 U.S.C. 412 and 414. Answers may be filed within 21 days after the filing of the application.

Docket Number: OST-2002-12532.

Date Filed: June 19, 2002.

Parties: Members of the International Air Transport Association.

Subject: PTC31 SOUTH 0125 dated May 28, 2002, South Pacific (except between New Zealand and USA), Resolutions r1-r34. PTC31 SOUTH 0126 dated May 28, 2002, South Pacific between New Zealand and USA Resolutions, r35-r47. Minutes—PTC31 SOUTH 0127 dated June 4, 2002. Tables—PTC31 SOUTH Fares 0029 dated June 11, 2002. Intended effective date: October 1, 2002.

Docket Number: OST-2002-12546.

Date Filed: June 20, 2002.

Parties: Members of the International Air Transport Association.

Subject: PTC12 USA-EUR 0137 dated June 18, 2002, North Atlantic-USA-Europe Resolution 002ab, (except between USA and Austria, Belgium, Germany, Iceland, Italy, Netherlands, Scandinavia, Switzerland). Intended effective date: August 1, 2002.

Dorothy Y. Beard,
Federal Register Liaison.

[FR Doc. 02-16503 Filed 6-28-02; 8:45 am]

BILLING CODE 4910-62-P